ENVIRONMENTAL PROTECTION AGENCY

[EPA-HQ-OPP-2017-0006; FRL-9965-43]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before October 16, 2017.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Biopesticides and Pollution Prevention Division (BPPD) (7511P), main telephone number: (703) 305-7090; email address: BPPDFRNotices@epa.gov, Michael Goodis, Registration Division (RD) (7505P), main telephone number: (703) 305-7090; email address: RDFRNotices@epa.gov. The mailing address for each contact person is: Office of Pesticide Programs, Environmental Protection Agency, 1200 Pennsylvania Ave. NW., Washington, DC 20460-0001.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), 21 U.S.C. 346a, requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

Amended Tolerances for Non-Inerts

PP 6F8512 (EPA-HQ-OPP-2016-0649). Nisso America Inc., on behalf of Nippon Soda Co., Ltd., 88 Pine Street, 14th Floor, New York, NY 10005, requests to amend the tolerance in 40 CFR part 180.667 for residues of the fungicide, cyflufenamid in or on the following raw agricultural commodities: Vegetable cucurbit (crop group 9), from 0.07 ppm to 0.1 ppm. A method was developed using solvent extraction of cyflufenamid from crops and analyzing sample extracts by LC/MS/MS. Contact: RD.

Amended Tolerance Exemptions for Non-Inerts (Except PIPS)

1. PP IN-11010. (EPA-HQ-OPP-2017-0257). Arkion Life Sciences, LLC, 551 Mews Drive, Suite J, New Castle, DE, 19720, requests to amend an exemption from the requirement of a tolerance in 40 CFR 180.1195 for residues of titanium dioxide (CAS Reg. No. 13463-67-7) when used as an inert ingredient in pesticide formulations to include use as an inert ingredient (colorant) at a concentration not to exceed 45 % by weight in pesticide formulations containing the active ingredient anthraquinone for use in pre-harvest foliar applications. The petitioner believes no analytical method is needed because it is not required for an exemption from the requirement of a tolerance. Contact: RD.

2. PP 7F8548. (EPA-HQ-OPP-2017-0283). Valent BioSciences LLC, 870 Technology Way, Libertyville, IL 60048, requests to amend an exemption from the requirement of a tolerance in 40 CFR 180.1150 for residues of the plant regulator 6-benzyladenine in or on fruiting vegetables (tomatoes and peppers) and cucurbits (cucumbers, melons, and squash). The analytical method liquid chromatography with mass-selective (MS/MS) detection is available to EPA for the detection and measurement of the pesticide residues. Contact: BPPD.

New Tolerance Exemptions for Inerts (Except PIPS)

1. PP IN-11015. (EPA-HQ-OPP-2017-0179). SciReg, Inc., 12733 Director's Loop, Woodbridge, VA 22192, on behalf of Holly Frontier Refining & Marketing LLC, 401 Plymouth Road, Suite 350, Plymouth Meeting, PA 19462 requests to establish an exemption from the requirement of a tolerance for residues of distillates, petroleum, solvent-dewaxed paraffinic (CAS Reg. No. 64742-65-0) when used as an inert ingredient (carrier) in pesticide formulations applied to growing crops and raw agricultural commodities, and to animals 40 CFR 180.910 and 40 CFR 180.930, respectively. The petitioner believes no analytical method is needed because it is not required for an exemption from the requirement of a tolerance. Contact: RD.

2. PP IN-11042. (EPA-HQ-OPP-2017-0363). Eco Verde Technologies Inc., 400 NW. 172 Avenue, Pembroke Pines, FL 33029, requests to establish an exemption from the requirement of a tolerance for residues of formaldehyde, polymer with 1,3-benzenediol, ethers with polyethylene glycol mono-Me ether (CAS Reg. No. 1998118-32-3) when used as an inert ingredient in pesticide formulations under 40 CFR 180.960. The petitioner believes no analytical method is needed because it is not required for an exemption from the requirement of a tolerance. Contact: RD.

3. PP IN-11043. (EPA-HQ-OPP-2017-0362). Eco Verde Technologies Inc., 400 NW. 172 Avenue, Pembroke Pines, FL 33029, requests to establish an exemption from the requirement of a tolerance in 40 CFR 180.960 for residues of formaldehyde, polymer with 1,3-benzenediol, 2-methyloxirane and oxirane, ethers with polyethylene glycol mono-Me ether (CAS Reg. No. 1998118-31-2) when used as an inert ingredient in pesticide formulations under 40 CFR 180.960. The petitioner believes no analytical method is needed because it is not required for an exemption from the requirement of a tolerance. Contact: RD.

4. PP IN-11044. (EPA-HQ-OPP-2017-0248). BASF Corporation, 100 Park Avenue, Florham Park, NJ 07932, requests to establish an exemption from the requirement of a tolerance for residues of the amine salt of styrene acrylic polymer, ammonium salt when used as an inert ingredient in pesticide formulations under 40 CFR 180.960. The petitioner believes no analytical method is needed because it is not required for an exemption from the requirement of a tolerance. Contact: RD.

5. PP IN-11045. (EPA-HQ-OPP-2017-0258). Spring Trading Company, 203 Dogwood Trail, Magnolia, TX, 77453 on behalf of Ashland, Inc., 1005 Rt. 202/206, Bridgewater, NJ 08807 requests to establish an exemption from the requirement of a tolerance for residues of 2-propenoic acid, 2-methyl-, dodecyl ester, polymer with 1-ethenyl-2-pyrrolidinone and α-(2-methyl-1-oxo-2-propen-1-yl)-ω-methoxypoly(oxy-1,2-ethanediyl) (CAS Reg. No. 193743-10-1) when used as an inert ingredient in pesticide formulations under 40 CFR 180.960. The petitioner believes no analytical method is needed because it is not required for an exemption from the requirement of a tolerance. Contact: RD.

6. PP IN-11046. (EPA-HQ-OPP-2017-0312). Spring Trading Company (203 Dogwood Trail, Magnolia, TX 77354) on behalf of Oxiteno USA, LLC, (9801 Bay Area Blvd., Pasadena, Texas 77507), requests to establish an exemption from the requirement of a tolerance for residues of 1-octanamine, N,N-dimethyl-, N-oxide (CAS Reg. No. 2605-78-9) when used as an inert ingredient (surfactant) in pesticide formulations applied to growing crops and raw agricultural commodities after harvest under 40 CFR 180.910. The petitioner believes no analytical method is needed because it is not required for an exemption from the requirement of a tolerance. Contact: RD.

7. PP IN-11048. (EPA-HQ-OPP-2017-0249). Technology Sciences Group, 1150 18th Street NW., Suite 1000, Washington, DC 20035, on behalf of Attune Agriculture, LLC, 10552 Philadelphia Road, White Marsh, MD 21162, requests to establish an exemption from the requirement of a tolerance for residues of konjac mannan (CAS Reg. No. 37220-17-0) when used as an inert ingredient (thickener) in pesticide formulations applied to growing crops only under 40 CFR 180.920. The petitioner believes no analytical method is needed because it is not required for an exemption from the requirements of a tolerance. Contact: RD.

8. PP IN-11062. (EPA-HQ-OPP-2017-0351). InvisiDex, Inc., 1129 Maricopa HWY #217, Ojai, CA 93023, requests to establish an exemption from the requirement of a tolerance for residues of the deoxyribonucleic acids (CAS No. 9006-49-2) when used as an inert ingredient (chemical identifier/molecular marker) at a concentration of not more than one part per million (ppm) by weight in pesticide formulations applied to growing crops and raw agricultural commodities after harvest under 40 CFR 180.910. The petitioner believes no analytical method is needed because it is not required for an exemption from the requirement of a tolerance. Contact: RD.

New Tolerances for Non-Inerts

1. PP 6E8526. (EPA-HQ-OPP-2017-0288). Valent BioSciences LLC, 870 Technology Way, Libertyville, IL 60048, requests to establish a tolerance in 40 CFR part 180 for residues of the plant regulator 6-benzyladenine in or on avocado at 0.05 parts per million (ppm). Liquid chromatography with mass-selective (MS/MS) detection is used to measure and evaluate the chemical 6-benzyladenine. Contact: BPPD.

2. PP 6E8529. (EPA-HQ-OPP-2017-0194). E. I. du Pont de Nemours and Company, 974 Centre Road, Wilmington, Delaware 19805, requests to establish a tolerance in 40 CFR part 180 for residues of the herbicide sulfometuron-methyl, benzoic acid, 2-[[[[(4,6-dimethyl-2-pyrimidinyl)amino]carbonyl]amino]sulfonyl]-, methyl ester in or on sugarcane, cane; sugarcane, molasses; and sugarcane, sugar, refined at 0.01 parts per million (ppm). The liquid chromatography with tandem mass spectrometry method is used to measure and evaluate the chemical sulfometuron-methyl. Contact: RD.

3. PP 6F8519. EPA-HQ-OPP-2017-0211. Syngenta Crop Protection, LLC, P.O. Box 18300, Greensboro, NC 27419, requests to establish a tolerance in 40 CFR part 180 for residues of the herbicide S-metolachlor in or on sugarcane at 0.4 parts per million (ppm) and sugarcane molasses at 1.5 ppm. A gas chromatography-nitrogen phosphorus detection (GC/NPD) method is used to measure and evaluate the chemical S-metolachlor. Contact: RD.

4. PP 6F853. EPA-HQ-OPP-2017-0169. Makhteshim Agan of North America (d/b/a ADAMA, 3120 Highlands Blvd., Suite 100, Raleigh, NC 27604), requests to establish a tolerance in 40 CFR part 180 for residues of the nematicide, fluensulfone, in or on fruit, pome, crop group 11-10 at 0.3 ppm; fruit, stone crop group 12-12 at 0.06 ppm; small fruit vine climbing subgroup 13-07D at 0.5 ppm; grape, raisin at 0.8 ppm; nut, tree, crop group 14-12 at 0.02 ppm; almond, hulls at 3.0 ppm; sugarcane at 0.03 ppm; sugarcane and molassess at 0.2 ppm, and inadvertent tolerance for residues of fluensulfone, including its metabolites and degradates, in or on (10-month plant-back interval): Grain, cereal, crop group 15 at 0.03 ppm; forage, fodder and straw of cereal grains, crop group 16 at 2 ppm; (90-day plant-back interval): Wheat, grain at 0.06 ppm; barley, grain at 0.06 ppm; buckwheat, grain at 0.06 ppm; oat, grain at 0.06 ppm; teosinte, grain at 0.06 ppm; wheat, bran at 0.10 ppm; barley, bran at 0.10 ppm; wheat, middlings at 0.07 ppm; wheat, shorts at 0.08 ppm; wheat, germ at 0.07 ppm; wheat, straw at 4 ppm; barley, straw at 4 ppm; oat, straw at 4 ppm; wheat, forage at 4 ppm; oat, forage at 4 ppm; wheat, hay at 8 ppm; barley hay at 8 ppm; and oat, hay at 8 ppm. The LC-MS/MS is used to measure and evaluate the chemical 3,4,4-trifluoro-but-3-ene-1-sulfonic acid. Contact: RD.

5. PP 7E8571. (EPA-HQ-OPP-2017-0291). Syngenta Crop Protection, LLC, P.O. Box 18300, Greensboro, NC 27419, requests to establish a tolerance in 40 CFR part 180 for residues of the herbicide, diquat-dibromide, in or on Crop Group 6C (Dried shelled pea and bean (except soybean)) at 0.08 parts per million (ppm). The Method GRM012.03A is used to measure and evaluate the chemical residues of diquat dibromide in commodities. Contact: RD.

6. PP 7E8578. (EPA-HQ-OPP-2011-0971). Nichino America, Inc., 4550 Linden Hill Rd., Suite 501, Wilmington, DE 19808, requests to establish a tolerance in 40 CFR part 180 for residues of the insecticide pyrifluquinazon (1-acetyl-1,2,3,4-tetrahydro-3-[(3-pyridylmethyl)amino]-6-[1,2,2,2-tetraflouro-1-(trifluoromethyl) ethyl]quinazolin-2-one) in or on imported tea at 20 parts per million (ppm). The analytical method HPLC-MS/MS is used to measure and evaluate the chemical pyrifluquinazon (1-acetyl-1,2,3,4-tetrahydro-3-[(3-pyridylmethyl)amino]-6-[1,2,2,2-tetraflouro-1-(trifluoromethyl)ethyl]quinazolin-2-one) and IV-01 (3-[(pyridine-3-ylmethyl)amino]-6-[1,2,2,2-tetrafluoro-1-(trifluoromethyl) etyl]-3,4-dihydro-1H-quinaolin-2-one). Contact: RD.

Authority: 21 U.S.C. 346a.

Dated: July 26, 2017.
Delores Barber,
Director, Information Technology and Resources Management Division, Office of Pesticide Programs.

[FR Doc. 2017-19692 Filed 9-14-17; 8:45 am]

BILLING CODE 6560-50-P